FEDERAL COMMUNICATIONS COMMISSION

47 CFR Parts 1, 27, and 73

[GN Docket No. 12-268; ET Docket No. 13-26; DA 14-677]

Incentive Auction Task Force Seeks Comment on Staff Analysis Regarding Pairwise Approach To Preserving Population Served

AGENCY: Federal Communications Commission.

ACTION: Proposed rule; request for comments.

SUMMARY: The FCC's Incentive Auction Task Force (IATF) seeks comment on the results of a staff analysis on the potential for new aggregate interference in the repacking process and seeks comment on newly released repacking constraint data that uses actual channels.

DATES: Comments must be filed on or before July 2, 2014 and reply comments must be filed on or before July 22, 2014.

ADDRESSES: You may submit comments, identified by GN Docket No. 12-268 and ET Docket No. 13-26, by any of the following methods:

• Federal eRulemaking Portal: http://www.regulations.gov. Follow the instructions for submitting comments.

• Federal Communications Commission's Web site: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People With Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Jonathan McCormack, Wireless Telecommunications Bureau, (202) 418-1065, email: jonathan.mccormack@fcc.gov.

SUPPLEMENTARY INFORMATION: This is a summary of the FCC's document, GN Docket No. 12-268, ET Docket No. 13-26, DA 14-677 released on June 2, 2014. The full text of this document is available for inspection and copying during normal business hours in the FCC Reference Center (Room CY-A257), 445 12th Street SW., Washington, DC 20554. The complete text of this document also may be purchased from the Commission's copy contractor, Best Copy and Printing, Inc., 445 12th Street SW., Room CY-B402, Washington, DC 20554. The full text may also be downloaded at: www.fcc.gov.

Summary

On June 2, 2014, the IATF released a document that published updated constraint data based upon actual channels, rather than proxy channels, to assist interested parties in conducting their own repacking studies. The document also announced the results of a staff analysis on the potential for new aggregate interference in the repacking process using the Commission's adopted approach to preserving population served. This approach limits allowable station assignments to those causing 0.5 percent or less new pairwise interference. The staff analysis compiled 100 repacking scenario studies and found that on average, approximately one percent of all stations received new aggregate interference above one percent, and that the vast majority received less than the 0.5 percent interference constraint.

The data and information released are based on preliminary staff assumptions necessary for completing the analysis, and are meant to be illustrative only. The FCC will adopt final decisions regarding the repacking process at a later date. The document and its appendix relate only to the repacking process, and specifically to issues commenters raised regarding the necessity of an aggregate interference cap and the use of proxy channels when preserving coverage area and population served. The results of studies in the analysis do not reflect any FCC assumptions about auction participation or station valuation.

A number of commenters supported using a 0.5 percent pairwise limit approach for limiting interference in the repacking process, but argued that the FCC should impose a cap of one percent on allowable aggregate interference for each station to mitigate the risk that an individual station in a crowded market could receive significant new interference when the permitted pairwise interference from multiple stations is added up.

In response to that argument, FCC staff conducted studies to calculate potential aggregate interference using the updated constraint files, which are based on actual channels, versus proxy channels. The staff analysis shows that approximately one percent of all stations in simulated channel reassignments received new interference above a one percent cap, and that the majority of stations received new aggregate interference well below the pairwise interference limit adopted by the FCC. The analysis is presented in detail in the appendix, available at https://apps.fcc.gov/edocs_public/attachmatch/DA-14-677A2.pdf. The repacking scenarios relate only to the UHF band because the largest number of stations that could potentially be assigned a new channel will be in this band. The FCC staff is releasing updated constraint files based upon actual channels to assist interested parties in conducting their own repacking studies. The new constraint files are in the same format as those released in July 2013, and can be found on the FCC's LEARN Web site under the Repacking Section at: http://fcc.gov/learn. These files are also posted at: http://data.fcc.gov/download/incentive-auctions/Constraint_Files/.

To generate sufficient data from which to draw meaningful results, FCC staff performed 100 simulations using several variations of an approach developed for creating simulated sets of stations to be repacked. The output of each of these simulations was a set of stations that remain on the air in the UHF band, together with the respective channel assignments, called a channel plan. Consistent with the FCC's adopted approach to preserving population served, none of the 100 channel plans involves new pairwise interference of greater than 0.5 percent. For each of these 100 channel plans, staff examined cell-level data generated by the TVStudy software to determine the aggregate interference experienced by each station. The results show that across all simulations, on average approximately one percent of stations are predicted to receive new aggregate interference after channel reassignment above the one percent cap proposed by commenters, while the average new aggregate interference level was less than 0.2 percent, well below the de minimis constraint threshold adopted by the FCC. In none of the results did any station receive new aggregate interference above 2 percent. Details about the methodology as well as study results can be found in the appendix, available at https://apps.fcc.gov/edocs_public/attachmatch/DA-14-677A2.pdf.

The analysis pertains only to constraints applied to prevent new interference under the approach adopted by the FCC, and does not consider any alternatives that stations may have, including the opportunity reassigned stations will have to request alternate channels or expanded facilities on their newly assigned channels. Similarly, the approach used in these studies does not factor in any post-auction optimization, which will be run after the completion of bidding in the auction. Such optimization could consider additional factors, such as minimizing the number of channel reassignments or the estimated costs of repacking.

To assist commenters in designing and running their own simulations, FCC staff is releasing information about how it conducted the analysis and performed interference calculations. The results are not exhaustive. The Incentive Auction Task Force invites parties to conduct their own simulations and interference analyses using these updated constraint files in conjunction with the publicly available TVStudy software.

The Incentive Auction Task Force seeks comment from interested parties on the data and analyses in the document and its appendix. New constraint files and all current and subsequent releases relating to the Broadcast Incentive Auction will be posted to and available on the LEARN Web site at: http://www.fcc.gov/learn.

Federal Communications Commission.
Roger Sherman,
Chief, Wireless Telecommunications Bureau.

[FR Doc. 2014-15585 Filed 7-1-14; 8:45 am]

BILLING CODE 6712-01-P